DEPARTMENT OF TRANSPORTATION

National Highway Traffic Safety Administration

[Docket No. NHTSA-2018-0055]

New Car Assessment Program

AGENCY: National Highway Traffic Safety Administration (NHTSA), Department of Transportation (DOT).

ACTION: Notice of public meeting; request for comments.

SUMMARY: NHTSA's New Car Assessment Program (NCAP) provides comparative information on the safety of new vehicles to assist consumers with vehicle purchasing decisions. Significant changes to NCAP have been either suggested by NHTSA or mandated by Congress in recent years. In December 2015, Congress mandated that NHTSA conduct a rulemaking requiring that crash avoidance information be placed on the Monroney label of new vehicles. Later that same month, NHTSA published a “request for comments” (RFC) in which it sought public comments on planned changes to NCAP. This notice announces a public meeting to obtain up-to-date stakeholder input on the way forward for NCAP.

DATES: NHTSA will hold the public meeting on September 14, 2018, from 9 a.m. to 5 p.m., Eastern Daylight Time. Check-in will begin at 8 a.m. Attendees should arrive by 8 a.m. to allow sufficient time for security clearance. In addition to this meeting, the public will have the opportunity to submit written comments to the docket for this notice concerning matters addressed in this notice.

ADDRESSES: The public meeting will be held at DOT Headquarters, located at 1200 New Jersey Avenue SE, Washington, DC 20590-0001 (Green Line Metro station at Navy Yard) in the Oklahoma City Conference Room. This facility is accessible to individuals with disabilities.

FOR FURTHER INFORMATION CONTACT: You may contact Ms. Jennifer N. Dang, Division Chief, New Car Assessment Program, Office of Crashworthiness Standards (Telephone: 202-366-1810).

SUPPLEMENTARY INFORMATION:

I. Background

This notice announces the holding of a public meeting on September 14, 2018, to obtain up-to-date stakeholder input for use in planning the future of NCAP. The impetus for this meeting comes from developments relating to two events in December 2015. On December 4, 2015, the Fixing America's Surface Transportation (FAST) ¹ Act was signed into law, which includes a mandate that NHTSA conduct a rulemaking to require the incorporation of crash avoidance information on the vehicle price stickers (also known as the Monroney labels) placed on the windows of new vehicles. On December 16, 2015, NHTSA announced in a Federal Register “request for comments” (RFC) ² its plan to add new tools and techniques to NCAP.

¹ §§ 24321-22, Public Law 114-94.

² 80 FR 78521, December 16, 2015.

NHTSA received nearly 300 sets of written comments on its December 2015 RFC.³ The commenters included vehicle manufacturers, automotive suppliers, associations of vehicle manufacturers and suppliers, consumer advocacy groups, universities, and other individuals and organizations interested in vehicle safety. NHTSA also received oral comments at two public hearings, the first in Detroit, Michigan on January 14, 2016, and the second at DOT Headquarters in Washington, DC on January 29, 2016.⁴

³ The comments are available in Docket No. NHTSA-2015-0119 at www.regulations.gov.

⁴ The transcripts are available in Docket No. NHTSA-2015-0119 at www.regulations.gov.

Commenters across the spectrum raised a number of issues involving both data and procedures. Commenters stated the public comment period was inadequate for purposes of responding because of the complexity of the program upgrade, and that the technical information supporting the RFC was not sufficient to allow a full understanding of the contemplated changes. According to the commenters, this hindered their ability to prepare substantive public comments.

In addition, most vehicle manufacturers stated that the significant cost burden due to fitment of the contemplated new technologies and the inclusion of a new crash test and new test devices would increase the price of new vehicles. Manufacturers, along with safety advocates, also expressed the need for data demonstrating that each proposed program change would provide enough safety benefits to warrant its inclusion in NCAP. Safety and consumer advocates recommended that NCAP award credit only if the technologies meet certain human machine interface requirements. In addition, several commenters suggested that NHTSA develop near-term and long-term roadmaps for NCAP and revise NCAP in a more gradual, “phased” approach.

Furthermore, commenters suggested that most of the planned NCAP upgrades, including the new rating system, should only be adopted through a process similar in rigor to that of a notice and comment rulemaking conducted under the Administrative Procedure Act. Lastly, certain vehicle manufacturers were concerned that changing future vehicle designs in order to respond to a NCAP upgrade would have an adverse effect on compliance with fuel economy and greenhouse gas emissions requirements.

In light of the public comments and NHTSA's FAST Act mandate, NHTSA is requesting oral and written comments from the public to help guide the Agency in planning its next steps for NCAP. The Agency continues to believe that NCAP needs to be modernized to incentivize the voluntary adoption of safety features. As part of that effort, the Agency is continuing to explore best methods for selecting and incorporating crash avoidance information on the vehicle price stickers.

NHTSA is considering various approaches to enhancing NCAP so that the program continues to serve the American public by providing useful, practical comparative vehicle safety information. For example, NHTSA could consider modifying the way NCAP provides meaningful consumer information about the safety potential of advanced crash avoidance technologies. Another strategy is to package information now available through NCAP in new ways, if they will be particularly effective in communicating vehicle safety information to targeted groups of new vehicle customers. Other NCAP enhancements on which the Agency seeks comment include strengthening the existing program's testing protocols and possibly creating safety ratings for areas of vehicle performance that are not currently rated.

From its inception, NCAP has played a significant role in educating consumers on vehicle safety as a key factor in their vehicle purchasing decisions. The increasing number of advanced crash avoidance technologies and Automated Driving Assistance Systems in vehicles underscores the importance of NCAP's role in educating consumers about vehicle safety. NCAP plays a vital role in ensuring that the potential benefits of advanced crash avoidance technologies are effectively communicated to the public. For example, NCAP could help standardize nomenclature of crash avoidance technologies by providing detailed descriptions of performance criteria that a technology must satisfy before being incorporated into NCAP testing.

NHTSA continues to gather information and conduct research relative to the areas discussed in the December 2015 RFC. Additionally, NHTSA is working to leverage the existing NCAP program to, among other things, improve the information it provides consumers, thereby increasing their awareness and understanding of certain safety improvements and enabling them to make better informed purchasing decisions. The Agency believes that a more thorough examination of which updates to NCAP are sufficiently supported by data and useful to consumers will ultimately lead to a better program that increases safety without unnecessarily increasing vehicle costs or impeding innovation.

II. Public Meeting Details

Registration: Registration is necessary for all attendees, due to limited space. Attendees must register online at https://www.surveymonkey.com/r/NCAP-Public-Meeting by September 7, 2018. Please provide your name, email address, and affiliation. Also, indicate whether you plan to participate actively in the meeting (speaking will be limited to 10 minutes per speaker for each of the four agenda topics, unless the number of registered speakers is such that more time per agenda topic will be available), and whether you require accommodations, such as a sign language interpreter.

Written Comments: Docket NHTSA-2018-0055 is available for written statements and supporting information regarding matters addressed in this notice. All interested persons, regardless of whether they attend or speak at the public meeting, are invited to submit written comments to the docket and are encouraged to do so. The formal docket comment period will close on [60 days from the publication date of this announcement], but NHTSA will continue to accept comments to the docket by any of the following methods:

• Federal Rulemaking Portal: Go to http://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, Washington, DC 20590-0001, between 9 a.m. and 5 p.m. EST, Monday through Friday, except Federal Holidays.

• Fax: 202-366-1767.

Instructions: All submissions must include the Agency name and docket number. Note that all comments received will be posted without change to https://www.regulations.gov, including any personal information provided. Please see the Privacy Act discussion below.

Docket: For access to the docket go to https://www.regulations.gov at any time or to 1200 New Jersey Avenue SE, West Building, Ground Floor, Room W12-140, Washington, DC 20590-0001, between 9 a.m. and 5 p.m., Monday through Friday, except Federal Holidays. Telephone: 202-366-9826.

Privacy Act: DOT posts all comments, without edit, to https://www.regulations.gov, as described in the system of records notice, DOT/ALL-14 FDMS, accessible through www.transportation.gov/privacy. In order to facilitate comment tracking and response, we encourage commenters to provide their name, or the name of their organization; however, submission of names is completely optional. Whether or not commenters identify themselves, all timely comments will be fully considered.

Confidential Business Information: If you wish to submit any written information under a claim of confidentiality, you should submit three copies of your complete written submission, including the information you claim to be confidential business information to the Chief Counsel, NHTSA, at 1200 New Jersey Avenue SE, Washington, DC 20590-0001. In addition, you should submit two copies, from which you have deleted the claimed confidential business information, to Docket Management at the address given above. When you send a comment containing information claimed to be confidential business information, you should submit a cover letter setting forth the information specified in our confidential business information regulation (49 CFR part 512).

The public meeting is structured to be a listening session in which NHTSA considers recommendations from the public on how best to improve NCAP. The list of questions below is not intended to limit the discussion or ideas to be presented at the listening session. It reflects areas in which NHTSA is requesting feedback relative to the next steps that could be taken with NCAP. NHTSA hopes these questions stimulate the thinking of those who plan to speak in the public meeting and/or submit written comments. Commenters may wish to use these questions to help organize and present their thoughts and ideas. Suggestions about other approaches to improving NCAP that are not reflected in these questions are encouraged as well.

Specific Guiding Questions: To help guide NHTSA gather information and feedback for use in planning the future of NCAP, the Agency seeks comments on the four topics below. NHTSA urges that, where possible, comments be supported by data and analysis to increase their usefulness. Please clearly indicate the source of such data.

A. Consumer Information

(1) NCAP strives to provide consumers with meaningful, comparative safety information that will assist them in making informed vehicle purchasing decisions. What changes could NHTSA make to the program that would better assist consumers in understanding the relative safety of vehicles?

(2) NHTSA currently provides crash safety ratings on its website, on vehicle window stickers, on its mobile application, in communication materials, and through distribution (i.e., to the automotive online community). What additional ways can the safety information generated by NCAP be most effectively communicated to today's consumers?

(3) What additional website functionality should NHTSA consider when presenting NCAP safety information to the public (e.g., ranking based on performance, grouping based on vehicle class, comparing vehicles within a class, custom filtering, options to view all vehicles at once, interactive charts and graphics)?

(4) What types of safety information, or methods of presenting safety information, should NHTSA's NCAP ⁵ consider from other NCAPs ⁶ or consumer-focused organizations to provide more meaningful information to consumers? How can NCAP better complement other U.S. consumer rating programs, such as that of the Insurance Institute for Highway Safety (IIHS)? ⁷

⁵ NHTSA's program can be viewed at https://www.nhtsa.gov/ratings.

⁶ Euro NCAP's program can be viewed at https://www.euroncap.com/en/ratings-rewards/.

⁷ The Insurance Institute for Highway Safety's program can be viewed at http://www.iihs.org/iihs/ratings.

(5) In addition to safety ratings, what other safety information would be useful to prominently present on NHTSA's website, mobile application, and other venues to new vehicle buyers? How much benefit would there be in highlighting specific information to certain new vehicle buying demographics (e.g., older drivers, teen drivers, family vehicles, urban/rural drivers, budget-conscious)? What types of objective criteria should NHTSA consider for this?

(6) Many new vehicles are equipped with pedestrian crash avoidance features. What value do vehicle buyers place on pedestrian crash avoidance features when selecting a new vehicle to purchase? Should NCAP consider pedestrian crash avoidance features when making program changes, and if so, how could a pedestrian component best be incorporated (e.g., as part of a rating, or as a separate assessment)?

(7) The field of vehicle safety is more dynamic now than ever before because of technological advances. Today's vehicles undergo more frequent design changes; advanced crash avoidance technologies are being introduced at a rapid rate; and, software updates to safety systems can be made over-the-air, improving their existing abilities and even giving them new abilities. Given the accelerating pace of such advancements, should NCAP consider alternative ways of collecting test data and safety information (such as through self-certification or some other means) and how can NCAP collect data/information from vehicle manufacturers so that it can continue to convey accurate information to consumers in a timely manner (such as via an interactive database)?

(8) Other NCAPs have produced long-term roadmaps for their programs. Euro NCAP published program roadmaps to 2020 ⁸ and 2025.⁹ What value would NHTSA, vehicle manufacturers, suppliers, and the public obtain by developing near-term and long-term roadmaps for U.S. NCAP?

⁸ https://cdn.euroncap.com/media/16472/euro-ncap-2020-roadmap-rev1-march-2015.pdf.

⁹ https://www.euroncap.com/en/press-media/press-releases/euro-ncap-launches-road-map-2025-in-pursuit-of-vision-zero/.

B. Rating System

(9) What types of ratings are most useful to vehicle manufacturers for communicating safety information to consumers? Are star ratings still the best way to promote meaningful safety information? Are there alternatives that should be considered (e.g., awards, numerical or percentage rankings, performance classifications (good vs. poor), half stars)? What are the advantages and disadvantages of these approaches?

(10) For a single, overall rating system covering many areas of safety (such as a 5-star rating), how can NHTSA apportion the testing and criteria to ensure that individual aspects of the rating will be properly weighted and balanced? What other strategies (e.g., half stars, demerits, modifiers) should NHTSA consider for a single, overall rating system?

C. Crash Avoidance

(11) The FAST Act requires that crash avoidance information be presented next to crashworthiness information on the Monroney label.¹⁰ (Implementation of this requirement will be the subject of a separate notice and comment proceeding). What approach should NHTSA consider in fulfilling this requirement that will be most helpful to consumers? Should NHTSA consider a rating (i.e., stars), a list of technologies, an award, or another approach? What strategy can offer flexibility if new changes to the crash avoidance information is warranted?

¹⁰ §§ 24321-22, Public Law 114-94.

(12) How can future crash avoidance aspects of NCAP complement other vehicle safety consumer information programs in the U.S.?

(13) Consumers are currently presented with a variety of advanced technology features on different vehicle models. Some are for convenience and some are designed for safety. Currently, a new advanced technology must meet four prerequisites to be added to NCAP. These include: (1) There is a known safety need, (2) vehicle and equipment designs that mitigate the safety need exist, or are available as a prototype, (3) a safety benefit can be estimated based on the anticipated performance of the existing or prototype design, and (4) a performance-based, objective test procedure can be developed to measure the ability of the technology to mitigate the safety issue.¹¹ How can NHTSA improve upon these strategies when determining which advanced technology features are appropriate for inclusion in NCAP? Should NHTSA also consider other factors (e.g., effectiveness, fleet penetration, path to automation, consumer acceptance, cost)?

¹¹ 78 FR 20599 (April 5, 2013).

(14) NHTSA has been engaging the public on ways to safely integrate Automated Driving Systems on our nation's roads. What should NCAP's role be in supporting the safe integration of Advanced Driver Assistance Systems ¹² that may lay the groundwork for Automated Driving Systems? Which crash avoidance elements, or aspects of automation, should NHTSA include in NCAP, and how could these be best evaluated (e.g., by assessing the performance of a specific technology or the crash avoidance system during a crash event)?

¹² Advanced Driver Assistance Systems (ADAS) are systems developed to automate/enhance vehicle systems for safety and for better driving. For example, the vehicle can help the human driver steer and/or brake, though the human driver must pay full attention at all times and perform the rest of the driving task.

(15) How should NHTSA's assessment of crash avoidance technology be combined with crashworthiness? If they are communicated in the same way, should there be an overall measure, or separate measures for crashworthiness and crash avoidance? If separate measures are preferred, should the measures be of the same type (e.g., only ratings or only awards, etc.), or should the measures be a combination of different types (e.g., ratings and awards, etc.)? Are there other strategies NHTSA should consider, and what are their advantages and disadvantages?

(16) Currently, many crash avoidance technologies are sold as optional equipment on vehicles, and a variety of different advanced technology features may be available on different trim levels. How can NCAP best communicate whether crash avoidance technologies are standard vs. optional on a vehicle model or trim level to ensure consumers are given accurate information on the safety of the vehicle they are purchasing? How should equipment availability affect the ratings of vehicles? What metric should NHTSA use to determine when it is appropriate to remove an advanced technology from NCAP (e.g., replace a technology once it reaches a high level of fleet penetration and replace it with a technology with a low level of penetration)?

D. Crashworthiness

(17) What are the opportunities for crashworthiness safety improvement? How should NHTSA approach consideration of new tests, test protocols or test devices, new injury criteria, risk curves, or additional occupants to be more reflective of real-world crashes? Could meaningful changes to injury criteria and risk curves be made to the current crash test dummies in the existing test configurations?

(18) Should NHTSA expand assessments beyond frontal and side crash testing? If so, how? For example, should NHTSA consider inclusion of other strategies, such as credit for enhanced seat belt reminders, or other technologies?

(19) How can the crashworthiness aspects of NCAP complement other vehicle safety consumer information programs in the U.S.? For example, are the crash modes, crash test dummies and injury criteria used in NCAP complementary to those used by the IIHS? Do they strike the right balance for the frontal and side impact crash configurations?

(20) Most new vehicles rated by NCAP are currently receiving 4- or 5-star ratings. These star ratings are based on how a vehicle's risk of injury reflected in NCAP tests compares to a baseline injury risk for all crash types that was derived from NHTSA crash data for MY 2007 and 2008 vehicles. In its July 11, 2008, Federal Register notice announcing enhancements to NCAP, NHTSA indicated that it would periodically review the crash performance of the vehicle fleet, as reflected by then-current NCAP test data.¹³ However, NHTSA has not conducted any formal reviews or baseline risk adjustments to date. Should NHTSA now consider adjusting the baseline risks used in the ratings calculations to reflect the crash test data from today's vehicles? Or, would there be a better approach to update the crashworthiness program to better differentiate performance among the vehicle fleet (e.g., new tests, dummies, injury criteria, etc.)?

¹³ 78 FR 20603.

(21) How frequently should NCAP change crashworthiness test requirements and/or update rating requirements to stay relevant with each new model year vehicle fleet? What effect would year-to-year changes have on (a) the credibility and understandability of information provided to consumers and (b) the manufacturers?

E. Meeting Agenda

8-9 a.m. Arrival/Check-in through security

9-9:10 a.m. Welcome remarks from NHTSA

9:10-11:10 a.m. Speakers on consumer information

11:10 a.m.-12:10 p.m. Speakers on rating system

12:10-1:15 p.m. Lunch (not provided)

1:15-3:15 p.m. Speakers on crash avoidance

3:15-4:15 p.m. Speakers on crashworthiness

4:15-4:50 p.m. Speakers on other topics

4:50-5 p.m. Closing remarks from NHTSA

Under authority delegated in 49 CFR 1.95 and 501.5.

Issued in Washington, DC on: July 27, 2018.
Heidi R. King,
Deputy Administrator.

[FR Doc. 2018-16653 Filed 8-2-18; 8:45 am]

BILLING CODE 4910-59-P